DEPARTMENT OF COMMERCE

National Oceanic and Atmospheric Administration

50 CFR Part 679

[Docket No. 250312-0036; RTID 0648-XF359]

Fisheries of the Exclusive Economic Zone Off Alaska; Reallocation of Pacific Cod in the Bering Sea and Aleutian Islands Management Area

AGENCY: National Marine Fisheries Service (NMFS), National Oceanic and Atmospheric Administration (NOAA), Commerce.

ACTION: Temporary rule; reallocation.

SUMMARY: NMFS is reallocating the projected unused amount of Pacific cod from catcher vessels greater than or equal to 60 feet (18.3 meters (m)) length overall (LOA) using pot gear to catcher/processors using pot gear in the Bering Sea and Aleutian Islands management area (BSAI). This action is necessary to allow the 2025 total allowable catch (TAC) of Pacific cod to be harvested.

DATES: Effective December 4, 2025, through 2400 hours, Alaska local time (A.l.t.), December 31, 2025.

FOR FURTHER INFORMATION CONTACT: Andrew Olson, 907-586-7228.

SUPPLEMENTARY INFORMATION: NMFS manages the groundfish fishery in the BSAI according to the Fishery Management Plan for Groundfish of the Bering Sea and Aleutian Islands Management Area (FMP) prepared and recommended by the North Pacific Fishery Management Council under authority of the Magnuson-Stevens Fishery Conservation and Management Act (Magnuson-Stevens Act). Regulations governing fishing by U.S. vessels in accordance with the FMP appear at subpart H of 50 CFR part 600 and 50 CFR part 679.

The 2025 Pacific cod TAC allocated to catcher vessels greater than or equal to 60 feet (18.3 m) LOA using pot gear in the BSAI is 10,605 mt as established by the final 2025 and 2026 harvest specifications for groundfish in the BSAI (90 FR 12640, March 18, 2025).

The 2025 Pacific cod TAC allocated to catcher/processors using pot gear in the BSAI is 1,894 mt as established by the final 2025 and 2026 harvest specifications for groundfish in the BSAI (90 FR 12640, March 18, 2025).

The Administrator, Alaska Region, NMFS, has determined that catcher vessels greater than or equal to 60 feet (18.3 m) LOA will not be able to harvest 200 mt of the 2025 Pacific cod TAC allocated to those vessels under § 679.20(a)(7)(ii)(A)(5). Therefore, in accordance with § 679.20(a)(7)(iii)(C), NMFS reallocates 200 mt of Pacific cod from catcher vessels greater than or equal to 60 feet (18.3 m) LOA using pot gear to the annual amount specified for catcher/processers using pot gear.

The harvest specifications for 2025 Pacific cod included in final 2025 and 2026 harvest specifications for groundfish in the BSAI (90 FR 12640, March 18, 2025) are revised as follows: 10,405 mt to catcher vessels greater than or equal to 60 feet (18.3 m) LOA using pot gear and 2,094 mt to catcher/processors using pot gear.

Classification

NMFS issues this action pursuant to section 305(d) of the Magnuson-Stevens Act. This action is required by 50 CFR part 679, which was issued pursuant to section 304(b) of the Magnuson-Stevens Act, and is exempt from review under Executive Order 12866.

Pursuant to 5 U.S.C. 553(b)(B), there is good cause to waive prior notice and an opportunity for public comment on this action, as notice and comment would be impracticable and contrary to the public interest. This requirement is impracticable and contrary to the public interest as it would prevent NMFS from responding to the most recent fisheries data in a timely fashion and would not allow for the full harvest of the Pacific cod TACs by the sectors with harvesting capability. NMFS was unable to publish a notice providing time for public comment because the most recent, relevant data for Pacific cod harvest by those sectors harvesting Pacific cod, as well as the potential capability to harvest reallocated Pacific cod, only became available as of December 2, 2025.

There is good cause under 5 U.S.C. 553(d)(3) to waive the 30-day delay in the effective date of this action. This finding is based upon the reasons provided above for waiver of prior notice and opportunity for public comment.

Authority: 16 U.S.C. 1801 et seq.

Dated: December 2, 2025.
Kelly Denit,
Director, Office of Sustainable Fisheries, National Marine Fisheries Service.

[FR Doc. 2025-22107 Filed 12-4-25; 8:45 am]

BILLING CODE 3510-22-P